DEPARTMENT OF AGRICULTURE

Animal and Plant Health Inspection Service

[Docket No. APHIS-2006-0112]

Introduction of Organisms and Products Altered or Produced Through Genetic Engineering; Public Forums

AGENCY: Animal and Plant Health Inspection Service, USDA.

ACTION: Notice of public forums.

SUMMARY: We are advising the public that the Animal and Plant Health Inspection Service will be holding four public forums to gather public comment on a draft environmental impact statement (DEIS) related to our consideration of revisions to our regulations regarding the importation, interstate movement, and environmental release of genetically engineered organisms.

DATES: The forums will be held August 1, 2007, from 4 p.m. to 7 p.m. in Riverdale, MD; August 3, 2007, from 4 p.m. to 6 p.m. in Riverdale, MD; August 16, 2007, from 4 p.m. to 7 p.m. in Davis, CA; and August 30, 2007, from 4 p.m. to 7 p.m. in Kansas City, MO.

ADDRESSES: The forums will be held at the following locations:

Riverdale, MD: USDA Center at Riverside, 4700 River Road, Riverdale, MD. For directions or facilities information, call (301) 734-8010.

Davis, CA: Walter A. Buehler Alumni & Visitors Center, Alpha Gamma Rho Hall, University of California, Davis, CA. For directions or facilities information, call (530) 754-9195 or visit http://www.alumnicenter.ucdavis.edu/.

Kansas City, MO: Hilton Kansas City Airport, Osage Rooms A & B, 8801 NW 112th Street, Kansas City, MO. For directions or facilities information, call (816) 891-8900 or visit http://www.hiltonkci.com/.

FOR FURTHER INFORMATION CONTACT: Dr. T. Clint Nesbitt, Biotechnology Regulatory Services, APHIS, 4700 River Road Unit 147, Riverdale, MD 20737-1238; (301) 734-5673.

SUPPLEMENTARY INFORMATION: On July 17, 2007, the Animal and Plant Health Inspection Service (APHIS) announced in the Federal Register (72 FR 39021-39025, Docket No. APHIS-2006-0112) the availability of a draft environmental impact statement (DEIS) related to our consideration of revisions to our regulations regarding the importation, interstate movement, and environmental release of genetically engineered organisms. The DEIS evaluates the alternatives we have identified in terms of their potential effects on the human environment compared to the effects of our current regulatory program. We believe our ongoing evaluation of these alternatives would benefit from the submission of additional views and data from the public, and we are especially interested in receiving comments on the subset of DEIS alternatives described in our July 17, 2007, notice. That notice specified how comments from the public may be submitted for consideration, and that we would consider comments received on or before September 11, 2007.

In order to provide additional opportunities for the public to comment on the DEIS, APHIS will hold four public forums in three locations: Riverdale, MD; Davis, CA; and Kansas City, MO (see ADDRESSES above). These informal forums are designed to engage interested individuals and elicit comments related to the DEIS. The format will consist of informational posters and comment stations. Attendees will be able to walk through the forum during the scheduled hours and interact with other attendees and APHIS personnel. Brief welcoming remarks will be given by APHIS personnel at 4:30 pm and again at 6 p.m. local time (the 6 p.m. briefing will not occur at the August 3, 2007, meeting in Riverdale, MD). There is no set schedule for each poster station, so the public may come and go at any time during the forum period. Participants will have the opportunity to record brief oral comments with a court reporter or to submit comments in writing, following directions provided at the comment stations.

The purpose of these forums is to provide the public with an opportunity to obtain information regarding the DEIS and interact with APHIS representatives, and to allow APHIS to gather further information on potential impacts on the human environment resulting from possible revision of our regulations. Comments received at these public forums will be considered along with the comments we receive on the DEIS in response to our July 17, 2007, notice.

Parking and Security Procedures for Riverdale, MD Forums

Please note that a fee of $2.25 is required to enter the parking lot at the USDA Center at Riverside. The machine accepts $1 bills or quarters. Picture identification is required to be admitted into the building. Upon entering the building, visitors should inform security personnel that they are attending the DEIS meeting.

Done in Washington, DC, this 18th day of July 2007.
Kevin Shea,
Acting Administrator, Animal and Plant Health Inspection Service.

[FR Doc. E7-14167 Filed 7-20-07; 8:45 am]

BILLING CODE 3410-34-P